DEPARTMENT OF LABOR

Employment and Training Administration

[TA-W-63,349]

Capelsie, Inc., Troy, NC; Notice of Termination of Investigation

Pursuant to Section 221 of the Trade Act of 1974, as amended, an investigation was initiated on May 9, 2008 in response to a worker petition filed by a company official on behalf of workers of Capelsie, Incorporated, Troy, North Carolina.

The petitioner has requested that the petition be withdrawn. Consequently, the investigation has been terminated.

Signed in Washington, DC, this 3rd day of June 2008.
Linda G. Poole,
Certifying Officer, Division of Trade Adjustment Assistance.

[FR Doc. E8-13408 Filed 6-13-08; 8:45 am]

BILLING CODE 4510-FN-P